DEPARTMENT OF JUSTICE

National Institute of Corrections

Solicitation for a Cooperative Agreement

SUMMARY: The Department of Justice (DOJ), National Institute of Corrections (NIC), announces the availability of funds in FY 2002 for a cooperative agreement to fund the project “Strategic Planning and Response”. NIC will award a one year cooperative agreement to develop a model for strategic planning in state prisons or state departments of corrections and a model or methodology for strategic response/strategic management in state correctional agencies. Up to $160,000 will be awarded in FY 2002. With satisfactory performance, additional funds may be added in subsequent years to implement strategic planning and strategic response/strategic management in state correctional agencies.

A cooperative agreement is a form of assistance relationship where the National Institute of Corrections is substantially involved during the performance of the award. An award will be made to an organization that will, in collaboration with the Institute, develop a model or methodology for strategic planning and strategic response/strategic management that will benefit state departments of correction.

Background

The National Institute of Corrections, Prisons Division, began offering assistance to state departments of corrections to address issues and concerns in their organizational climate. Work is on-going in the areas of Institution Mission Change, Institutional Culture Assessment, Workforce and Staff Sexual Misconduct. In many of the institutions which request NIC assistance, it is apparent that to address their organizational or culture issues, there needs to be a strategic approach to addressing their issues and concerns.

Management scholars and practitioners have identified five major functions of the managerial process—planning, organizing, directing, motivation, and controlling. Perhaps the most critical, but least developed, skill in correctional management is “planning”. This, despite the fact that our ultimate success largely depends on the management of change, recognizing and addressing areas of vulnerability, and the process by which managers identify alternative courses of action, measure their probable results, and determine the strategy through which they will achieve their goals. Strategic planning can be a practical tool for correctional agencies and institutions so that they are viewing the “big picture” as they develop their long and short term operational plans.

As is true of ongoing system and operational planning, the response to critical events in the correctional environment is often without the benefit of in-depth preparation. Increasingly, decisions following unique events have been made intuitively, in a “shooting from the hip” manner, or based on political or economic expedience. Though termination of an employee for abuse of inmates or sexual misconduct with inmates may be appropriate, failure to examine and address the culture that supports, encourages, or turns a blind eye to such behavior will most certainly ensure repeat of such behaviors. Only those managers who search for and identify core issues rather than mere symptoms of the issue and initiate a planned, strategic response are successful in impacting the issue at its core.

Most strategic planning initiatives fail during the implementation of the process. Additionally, organizations need to be willing to shift priorities and resources, promote teamwork and accountability and obtain internal and external “buy-in” if they intend to manage their agency strategically. Identifying a model or methodology for Strategic Management will assist correction agencies in improving their organizational capabilities.

Purpose

The National Institute of Corrections is seeking applications for a cooperative agreement which will propose a strategic planning model and a strategic response/strategic management model or methodology that will be effective and useful to state departments of corrections.

Scope of Project

1. To identify and review Strategic Planning models which are currently used in the state departments of corrections or other public sector agencies and to identify one model that appears to meet criteria (to be developed by the applicant) that would make them of greatest benefit to state departments of corrections and state prisons. The selected model should be fully developed with all relevant materials that would be required for implementation in an operating correctional agency. A system of measurement and accountability will be required for the selected model.

2. To develop a model or methodology for Strategic Response that could enable state departments of corrections to have a planned response to critical, unique and unanticipated events. The methodology will include a protocol for identifying the core problem or issues, assessing the nature of the consequent vulnerability, determining the scope of it's impact, and developing specific, strategic actions to ameliorate the condition and lessen/eliminate the vulnerability. the methodology will be sufficiently flexible to lend it's applicability to a broad range of problems or issues (example: change of facility mission, excessive violence, staff sexual misconduct, chronic absenteeism, budget/staff reductions, etc.). The methodology will guide the development of the strategic response model that will usually include both short-and long-term interventions. It will guide the development of immediate actions that must be taken; intermediate system and facility planning that is required; and may require system level strategic planning to re-order operations, make programmatic adjustments, reallocate staff, etc.

3. To develop a model or methodology for Strategic Management that will enable a state correctional agency to implement its Strategic Plan into the long—term and short—term management of the agency. Existing models or methodologies for Strategic Management should be reviewed and the one which is most appropriate for operating correctional agencies selected and developed for implementation. All relevant materials must be included.

4. to document all the efforts of this project in a report to NIC, which will be made available on the NIC web site, which will clearly detail the proposed models and how they were selected and developed. Development of a title, description and format for the report should include the objectives of the project, all project outcomes and all relevant information concerning the project. This report will also include the research conducted for this project and a comprehensive review of all literature pertaining to the project's work.

5. To develop a short monograph for publication, which adheres the NIC's guidelines for publications, which would contain practical information for departments of corrections and other correctional agencies which would like to implement Strategic Planning, Strategic Response or Strategic Management models, with a “Lessons Learned” focus from any agencies currently utilizing the model. This should include a glossary of terms and definitions related to strategic planning and strategic response that may create a common language in the correctional environment. All materials that would be needed to train an agency's staff to implement any of the models or methodologies are to be included.

6. Development of an outcome evaluation instrument through which the effectiveness of the models/methodologies can be measured. Linked to the strategic planning and response methodology, the outcome evaluation will inform the planning and guide development of alternative interventions as necessary and appropriate.

7. Applicants who are familiar with the NIC Institutional Culture Initiative are welcomed to discuss this current cooperative agreement and its relationship to the other Initiative projects. However, there will be no penalty to applicants who do not discuss the relationship of this project to the broader Initiative.

8. In assessing the applications, additional consideration will be given to applicants who provide guidance in use of the methodology, in an institution that may be antagonistic to examination and hostile to intervention. The characteristic of such a correctional culture may be described and strategies proposed that will enhance the success of change agents leaders, and managers in strategic response. Allocation of cooperative agreement resources to this optional task may not significantly detract from the primary tasks.

Specific Requirements

1. The intent of this solicitation is not to “reinvent the wheel” by developing new models for Strategic Planning or Strategic Management. Rather the applicant is requested to demonstrate knowledge of existing Strategic Planning or Strategic Management models which are used in correctional agencies or other public sector agencies as well as knowledge of the correctional environment. Applicants are requested to select a model of Strategic Planning and Strategic Management which they believe would be useful and manageable in a correctional environment—or to adapt portions of existing models of Strategic Planning or Strategic Management to create a model for correctional agencies. Research, survey's, site visits, focus groups and all other methods for identifying existing models of Strategic Planning and Strategic Management as well as the criteria for selection of the models must be clearly explained in the proposal.

2. The development of a model or methodology for Strategic Response is expected to demonstrate expertise in correctional management, organizational development and change management. If there is no existing model on which to rely, the applicant should propose a methodology of strategic response which can be utilized by department of corrections. The methodology will be sufficiently flexible to lend its applicability to a broad range of problems or issues (examples: change of institution mission, excessive violence, staff misconduct, absenteeism, budget/staff reductions, etc.). The strategic response will usually include both short-and long-term interventions: immediate actions that must be taken; intermediate system and facility planning that is required; and may require system level strategic planning to re-order operations, make programmatic adjustments, reallocate staff, etc.

3. Development of a methodology for strategic response will enable rapid, planned response to critical, unique and unanticipated events. Strategic management provides an organization the opportunity to shift it's organizational priorities to implement the goals it has developed. The applicant should provide a conceptual understanding of Strategic Planning, Strategic Response and Strategic Management which provides a practical and useful tool to state correctional agencies.

4. The applicant must demonstrate that their project team is comprised of persons with expertise in correctional administration/management and organizational development/change.

5. The person designated as project director is required to be the person who will manage the project on a day-to-day basis and who has full decision—making authority to work with the NIC project manager. This person must have enough time dedicated to the project to assure they are available to direct the day-to-day activities of the project and to be available for collaboration with the NIC project manager. Applicants may use whatever position titles they wish with other project staff, but the position of project director must be as described in this paragraph.

6. Applicants should identify in the proposal specific strategies for assuring a collaborative effort between their project team and NIC. Additional credit will be given during the evaluation process to applicants who can demonstrate their ability to work collaboratively from their previous work.

Application Requirements

Applications must be submitted using OMB Standard Form 424, Federal Assistance, and attachments. The applications should be concisely written, typed double-spaced, and referenced to the project by the number and title given in this cooperative agreement announcement. The narrative portion of this cooperative agreement application should include, at a minimum:

1. A brief paragraph that indicates the applicant's understanding of the purpose of this cooperative agreement;

2. One or more paragraphs to detail the applicants understanding of strategic planning, strategic management and strategic response;

3. A brief paragraph that summarizes the project goals and objectives;

4. A clear description of the methodology that will be used to complete the project and achieve its goals;

5. A clearly developed and detailed Project Plan which demonstrates how the various goals and objectives of the project will be achieved through its various activities so as to produce the required results;

6. A chart of measurable project milestones and time lines for the completion of each milestone;

7. A description of the staffing plan for the project, including the role of each project staff, the time commitment for each, the relationship among the staff (who reports to whom), and a statement from individual staff that they will be available to work on this project;

8. A description of the qualifications of the applicant organization and documentation of each project staff's knowledge, skills and abilities to carry out their assigned project responsibilities;

9. A budget that details all costs for the project, shows consideration for all contingencies for this project, and notes a commitment to work within the budget proposed (budget should be divided into object class categories as shown on application Standard Form 424A). A budget narrative must be included which explains how all costs were determined.

The project must be completed within one year of its award date.

Authority: Public Law 93-415.

Funds Available: The award will be limited to a maximum of $160,000 (direct and indirect costs). Funds may only be used for the activities that are linked to the desired outcome of the project. No funds are transferred to state or local government. This project will be a collaborative venture with the NIC Prisons Division.

Application Procedures: Applications must be submitted in six copies to the Director, National Institute of Corrections, 320 First Street, NW, Room 5007, Washington, DC 20534. At least one copy of the application must have the applicant's original signature in blue ink. A cover letter must identify the responsible audit agency for the applicant's financial accounts.

Deadline for Receipt of Applications: Applications must be received by 4:00 p.m. Eastern Daylight Time on Wednesday, June 12, 2002. They should be addressed to Director, National Institute of Corrections, 320 First Street, NW., Room 5007, Washington, DC 20534. The NIC application number should be written on the outside of the mail or courier envelope. Applicants are encouraged to use Federal Express, UPS, or similar service to ensure delivery by due date as the mail at the National Institute of Corrections is still being delayed due to decontamination procedures implemented after recent events. Applications mailed or submitted by express delivery should be sent to: National Institute of Corrections, 320 First Street, NW., Room 5007, Washington, DC 20534, Attn: Director. Hand delivered applications can be brought to 500 First Street, NW., Washington, DC 20534. The security officer will call our front desk at (202) 307-3106 to come to the security desk for pickup. Faxed or e-mailed applications will not be accepted.

Addresses and Further Information: A copy of this announcement and application forms may be obtained through the NIC Web site: http.//www.nicic.org (click on “Cooperative Agreements”). Requests for a hard copy of the application, forms, and announcement should be directed to Judy Evens, Cooperative Agreement Control Office, National Institute of Corrections, 320 First Street, NW, Room 5007, Washington, DC 20534 or by calling (800) 995-6423, extension 44222 or (202) 307-3106, extension 44222. She can also be contacted by e-mail via jevens@bop.gov.

All technical and or programmatic questions concerning this announcement should be directed to Susan M. Hunter at the above address or by calling (800) 995-6423, extension 40098 or (202) 514-0098, or by e-mail via shunter@bop.gov. A copy of this announcement and application forms may also be obtained through the NIC Web site: http://www.nicic.org (click on “Cooperative Agreements”).

Eligibility Applicants: An eligible applicant is any state or general unit of local government, private agency, educational institution, organization, individuals or team with expertise in the requested areas.

Review Considerations: Applications received under this announcement will be subjected to 3 to 5 member Peer Review Process.

Number of Awards: One (1).

NIC Application Number: 02P09. This number should appear as a reference line in the cover letter and also in box 11 of Standard Form 424 and on the outside of the envelope in which the application is sent.

Executive Order 12372

This program is subject to the provisions of Executive Order 12372. Executive Order 12372 allows States the option of setting up a system for reviewing applications from within their States for assistance under certain Federal programs. Applicants (other than Federally-recognized Indian tribal governments) should contact their State Single Point of Contact (SPOC), a list of which is included in the application Kit, along with further instructions on proposed projects serving more than one State.

The Catalog of Federal Domestic Assistance number is 16.603.
Dated: April 18, 2002.
Morris L. Thigpen,
Director, National Institute of Corrections.

[FR Doc. 02-10257 Filed 4-25-02; 8:45 am]

BILLING CODE 4410-36-M